DEPARTMENT OF ENERGY

Federal Energy Regulatory Commission

[Docket No. RP96-331-013]

National Fuel Gas Supply Corporation; Notice of Proposed Changes in FERC Gas Tariff

March 24, 2000.

Take notice that on March 21, 2000 National Fuel Gas Supply Corporation (National Fuel) tendered for filing as part of its FERC Gas Tariff, Fourth Revised Volume No. 1, Third Revised Sheet No. 12 and Second Revised Sheet No. 13 (reserved for future use), with a proposed effective date of April 1, 2000.

National Fuel states that the filing is made to implement firm storage and transportation agreements between National Fuel and TXU Energy Trading Company (TXU). National Fuel states that these agreements provide for negotiated rates pursuant to GT&C Section 17.2 of National Fuel's tariff and the Commission's policy regarding negotiated rates.

National Fuel states that copies of this filing were served upon its customers and interested state commissions.

Any person desiring to be heard or to protest said filing should file a motion to intervene or a protest with the Federal Energy Regulatory Commission, 888 First Street, NE., Washington, DC 20426, in accordance with Sections 385.214 of 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-7790 Filed 3-29-00; 8:45 am]

BILLING CODE 6717-01-M